DEPARTMENT OF TRANSPORTATION

Federal Transit Administration

Job Access and Reverse Commute Competitive Grants

AGENCY: Federal Transit Administration (FTA), DOT.

ACTION: Notice of availability of funds: Solicitation for grant applications.

SUMMARY: The U.S. Department of Transportation's (DOT) Federal Transit Administration (FTA) announces the second round of competitive grants under the Job Access and Reverse Commute grant program, authorized under section 3037 of the Transportation Equity Act for the 21st Century (TEA-21). This announcement describes the conditions under which applications will be received for the FY 2000 Job Access and Reverse Commute competitive grants program and how FTA will determine which projects it will fund. It includes all of the information needed to apply for Job Access and Reverse Commute competitive grants. The announcement also contains information needed to apply for projects specifically allocated funding by Congress.

This announcement is available on the U.S. Department of Transportation's FTA website at http://www.fta.dot.gov/wtw/. The website also has commonly asked questions and answers. FTA will announce final selections on the website and in the Federal Register.

DATES: FTA will make funding commitments for competitively selected Job Access and Reverse Commute projects through a two-stage process. All proposals must be submitted to the appropriate FTA regional office (see Appendix A) by the close of business May 9, 2000. After evaluation and selection, successful applicants will be required to submit supplementary documentation demonstrating compliance with all of FTA's Section 5307, “Urbanized Area Formula Grants” requirements. If the applicant so elects, a proposal and final application documenting standard FTA Section 5307 requirements may be submitted at the same time. Applications for congressionally-designated projects may be submitted as soon as they are completed, but not later than May 9, 2000. A single application containing the proposal and documentation of Section 5307 requirements is required.

ADDRESSES: Comments on, or questions about, the Job Access and Reverse Commute program or the application process may be made at the email address: [JobAccess@fta.dot.gov]. Or they may be mailed or faxed to the following address: Doug Birnie, Federal Transit Administration, Room 9409, 400 7th Street, S.W., Washington, D.C. 20590 (FAX (202) 366-3765).

FOR FURTHER INFORMATION: Contact the appropriate FTA Regional Administrator (see Appendix A) for application-specific information and issues. For general program information, contact Doug Birnie, Office of Research Management, TRI-30, (202) 366-0176, email douglas.birnie@fta.dot.gov. A TDD is available at 1-800-877-8339 (TDD/FIRS).

SUPPLEMENTARY INFORMATION:

Table of Contents

I. Background

II. Changes in the Fiscal Year 2000 Solicitation

III. General Program Information

IV. Guidelines for Preparing Grant Application

V. Application Submission

VI. Grant Review Process

Appendix A FTA Regional Offices

Appendix B Definitions

Appendix C Sample Project Budget

Appendix D Summary of FTA's Section 5307 Requirements

Appendix E ADA Certification

Appendix F Agency Classifications

I. Background

The Job Access and Reverse Commute Program has two major goals: to provide transportation services in urban, suburban and rural areas to assist welfare recipients and other low-income individuals in accessing employment opportunities, and to increase collaboration among the regional transportation providers, human service agencies and related service providers, employers, metropolitan planning organizations (MPOs), states, and affected communities and individuals.

The Job Access and Reverse Commute grant program is intended to establish a regional approach to job access challenges through the establishment of an area-wide Job Access and Reverse Commute Transportation Plan. This plan is to be developed through a coordinated transportation/human services planning process. Projects derived from this plan support the implementation of a variety of transportation services that may be needed to connect welfare recipients and other low-income individuals to jobs and related employment activities. All projects funded under the Job Access and Reverse Commute grant program must be derived from such an area-wide plan.

While the projects must be planned in coordination with traditional transit authorities, Metropolitan Planning Organizations and State Departments of Transportation, other interested organizations could take the lead in establishing the collaborative planning process or in submitting a project application.

The Job Access and Reverse Commute grant program will support projects that are implemented by a wide range of transportation providers, but projects should be integrated within or coordinated with the existing transportation system and make efficient and effective use of existing transportation providers.

FTA is placing special emphasis on consultation with the community to be served, including welfare recipients and low-income individuals, individuals with disabilities, migrant workers, Native Americans and community-based, faith-based and other organizations addressing the interests of such individuals.

A Job Access project is designed to transport welfare recipients and low-income individuals in urban, suburban, or rural areas to and from jobs and activities related to their employment. Job Access projects implement new transportation services or extend existing services to fill the gaps that exist in many areas between where welfare recipients and low-income persons live and employment opportunities. Job Access and Reverse Commute grants funded under this program may not be used for planning or coordinating activities and cannot supplant existing sources of funding. Only new or expanded services are eligible for funding.

Funding for Job Access and Reverse Commute grants is authorized at $150 million annually. The Transportation Equity Act for the 21st Century (TEA-21) provided guaranteed funding starting at $50 million in fiscal year (FY) 1999, increasing by $25 million a year, and reaching the full authorized $150 million in FY 2003. Funding above the guaranteed level depends on congressional appropriations. No more than $10 million annually can be used for grants designated as Reverse Commute projects.

Program funding is divided in the following manner: sixty percent (60%) for areas with populations 200,000 and above, twenty percent (20%) for areas between 50,000-200,000 population, and twenty percent (20%) for areas below 50,000 population.

Congress has appropriated $75 million for the Job Access and Reverse Commute grants in FY 2000. Of this amount, Congress has allocated $49.57 million for specific states and localities. The remaining $25.4 million plus $4.2 million in unobligated FY 1999 funding is available for competitive award. The following chart provides information on the amounts available for competitive projects in each funding category, as well as the amounts reserved for specific areas by each funding category.

| Approximate amounts for projects in areas with population—(funding in millions): >200,000 | Approximate amounts for projects in areas with population—(funding in millions): 50-200,000 | Approximate amounts for projects in areas with population—(funding in millions): >50,000 | Approximate amounts for projects in areas with population—(funding in millions): Totals for all areas
FY 2000 Funds Available | $45.0 | $15.0 | $15.0 | $75.0
Amounts Reserved for Specific Projects | 30.2 | 9.0 | 10.4 | 49.6
FY 2000 Funds Available for Competitive Award | 14.8 | 6.0 | 4.6 | 25.4
FY 1999 Funds Not Allocated | 1.0 | 2.8 | .4 | 4.2
Total Funds Available for Competitive Award | 15.8 | 8.8 | 5.0 | 29.6

A 50 percent non-DOT match is required. Other Federal funds that are eligible to be used for transportation costs can be used as part of the match. Applicants should submit projects that can be started within six months, but no later than within one year.

II. Changes in the Fiscal Year 2000 Solicitation

A. Area-Wide Job Access and Reverse Commute Transportation Plan

In FY 1999, it was not clear to some what the difference was between the Regional Job Access and Reverse Commute Plan and the Regional Transportation Plan developed by Metropolitan Planning Organizations in urbanized areas as required by the FHWA/FTA Joint Planning regulations. The plans required for the Job Access and Reverse Commute program are short-term, operational service plans that are meant to address gaps in current transit service that impede welfare recipients and low-income persons from reaching jobs and employment support services. The Regional Transportation Plan is a long-range plan that identifies area transportation needs in light of projected growth patterns and broadly charts major capital investments for transportation system development to meet these projected needs. To avoid confusion, we have renamed job access plans as Area-Wide Job Access and Reverse Commute Transportation Plans.

B. Persons With Disabilities

Because of high employment experienced by persons with disabilities and their more dispersed residential patterns, the Job Access and Reverse Commute Plans are now required to identify projects which address the mobility needs of this population in reaching employment sites and support activities. Applicants also must submit with their proposals a certification that the requirements of the Americans with Disabilities Act (ADA) will be met. (See Appendix E)

C. Multi-Year Commitments

In FY 1999, a number of applicants sought multi-year commitments from FTA. Because of limited funding available, recipients of FY 1999 Job Access and Reverse Commute funding seeking second year funding must compete with other applicants. They will be evaluated based on demonstrated progress in meeting the goals of their project, as well as on the general evaluation criteria. A full application must be submitted, including the transmittal memo, the proposal narrative and plan and any relevant updates, and documentation of demonstrated progress towards meeting project goals.

D. One-Step Application Process

In fiscal year 1999, FTA required applications to be submitted in two stages: The project proposal, including the Job Access and Reverse Transportation Plan, to be submitted first, and for applications approved for funding, the supplementary documentation necessary to meet the requirements of FTA's Section 5307 program. Some applicants wished to have a one-step instead of a two-step application process. This year, applicants may submit the entire application simultaneously, including project proposal and the supplementary documentation, if they choose to. (See Sections II and III) Those wishing to submit a single application should work closely with the appropriate FTA regional office. (See Appendix A for Regional Contacts)

E. Projects for Congressionally-Designated Areas

Applicants for projects supporting the development of local transportation services and related promotional activities in congressionally-selected areas must submit applications responding to the same program selection criteria as applications for competitive selection. Such applications shall demonstrate conformity with the requirements of the Job Access and Reverse Commute program and will provide information to demonstrate sound project management.

III. General Program Information

A. Authority

Section 3037 of the Transportation Equity Act for the 21st Century (TEA-21).

B. Background

While two-thirds of all new jobs are in the suburbs, three-quarters of welfare recipients live in rural areas or in central cities. In metropolitan areas with extensive transit systems, studies have shown that less than half of the jobs are accessible by transit. Even fewer jobs are accessible by transit in areas with limited transit systems. Many entry-level workers have difficulty reaching jobs during evening or weekend shifts when transit services are frequently diminished or non-existent. Work trips can also be complex, involving several destinations including childcare providers. The problems can be more challenging in rural areas where approximately 40 percent of rural counties lack public transit systems and commuting distances generally are longer than in urban areas.

Auto ownership among welfare recipients and low-income persons is low. Most welfare recipients do not own cars and nearly 40 percent of workers with annual incomes below $10,000 do not commute by car. In 1991, the median price of a new car was equivalent to 25 weeks of salary for the average worker and considerably more for the low-income worker.

Transportation is clearly a key barrier to those moving from welfare to work. Providing a variety of new or expanded transportation options for low-income workers, especially those who are receiving or who have recently received welfare benefits, will increase the likelihood that those workers will get and retain jobs.

In FY 1999, $75 million was appropriated and FTA awarded approximately $71 million, $67.5 million for job access projects and $3.4 million for reverse commute projects. Successful applicants in the first round were announced on May 13, 1999 and included a variety of services ranging from extended bus routes and specialized van services reaching new employment sites to guaranteed ride home programs and late night and weekend service providing additional hours of service. Project descriptions can be found on the FTA website at (www.fta.dot.gov/wtw). The remaining uncommitted funds are added to the FY 2000 appropriation.

C. Scope

Improving mobility and advancing economic development are key strategic goals of the U.S. Department of Transportation. Job Access funds help improve mobility and economic opportunity for welfare recipients and other low-income people through implementing new or expanded transportation activities. Reverse Commute funds help improve mobility to suburban employment opportunities for the general public, as well as for welfare recipients and low-income people.

D. Eligible Applicants

Consistent with Section 3037 (b)(4)(A) & (B), local agencies and authorities, non-profit organizations and designated recipients under other FTA programs (usually a state entity or a regional transit authority) are eligible applicants for Job Access and Reverse Commute grant program funds. Local agencies and authorities include states, local governments, metropolitan planning organizations (MPOs), public transit agencies and tribal governments.

In urbanized areas with 200,000 population or more, MPOs select the applicant(s). FTA urges MPOs to designate a single recipient to submit a consolidated application in urbanized areas with such populations.

In small urbanized areas under 200,000 population and in non-urbanized, rural areas, states select the applicant. For areas between 50,000-200,000 population, applications forwarded to the state for selection must be endorsed by the area MPO as projects that the MPO would be willing to program in the Transportation Improvement Program if the projects were selected for funding States are urged to serve as the designated recipient for grants to small urbanized and non-urbanized areas. The selected grant recipient can sub-allocate funds to other project participants.

Tribal governments must go through the state selection process but, once selected, can choose to be sub-recipients of the state or, as sovereign governments, can apply directly to FTA. States are encouraged to work closely and expeditiously with tribal applicants. FTA regional offices are available to facilitate this process.

E. Eligible Projects

1. In General

Job Access or Reverse Commute projects derived from an Area-Wide Job Access and Reverse Commute Transportation Plan are eligible. Please note that grants awarded under the Job Access and Reverse Commute program may not be used for planning or coordinating activities. (Section 3037(e)) However, metropolitan and statewide planning funds made available under the FTA Section 5303 and 5313(b) programs and FHWA/FTA Joint Planning, Section 49 CFR part 613, Section 23 CFR part 420, and state planning and research funds (SPR) can be used to fund welfare to work transportation planning activities at a 100 percent Federal share. Other funds, including the U.S. Department of Health and Human Services' Temporary Assistance for Needy Families (TANF) and the Department of Labor's Welfare-to-Work (WtW) administrative funds, can also be used for transportation planning activities consistent with the allowable uses of those resources. Lead applicants submitting consolidated applications on behalf of a number of subrecipients may apply for administrative costs up to ten percent of the grant request.

2. Job Access Project

A Job Access project is directed at implementing new or expanded transportation services. These services are targeted at filling transportation gaps and designed to transport welfare recipients and low-income individuals to and from jobs and other employment-related support services such as childcare and job readiness, training and retention services. The Job Access Grant Program funds the capital and operating costs of new or expanded transportation services.

Localities have wide flexibility in selecting service strategies that are appropriate for their areas, including, but not limited to:

(a) Adding late night and weekend service;

(b) Providing a guaranteed ride home service;

(c) Initiating shuttle service;

(d) Extending fixed route mass transit service;

(e) Providing demand responsive van service;

(f) Sponsoring ridesharing and carpooling activities; and

(g) Encouraging bicycling.

To improve customer service and operating efficiency, localities are encouraged to:

(a) Establish regional mobility managers or transportation brokerage activities;

(b) Apply Geographic Information System (GIS) tools;

(c) Implement Intelligent Transportation Systems (ITS), including customer trip information technologies;

(d) Integrate automated regional public transit and human service transportation, including health services, information, scheduling and dispatch functions; and

(e) Deploy vehicle position monitoring systems.

Job Access and Reverse Commute grants also may be used for promoting the use of:

(a) Transit by workers with non-traditional work schedules,

(b) The purchase of transit vouchers by appropriate agencies for welfare recipients and eligible low-income individuals;

(c) The development of employer-provided transportation such as shuttles, ridesharing, carpooling; or

(d) The use of transit pass programs and benefits under Section 132 of the Internal Revenue Code of 1986.

Marketing and advertising are examples of promotional activities that could be undertaken to increase awareness of these transportation options and their benefit to welfare recipients and low-income individuals. Other locality-specific actions, strategies and linkages that further the program goals also may be eligible.

While the marketing and promotion of transit pass programs are eligible expenses under the Job Access and Reverse Commute Program, the funding of individual transit passes is not an eligible expense. Additionally, the construction of child care centers and other employment support facilities at transit hubs are not eligible for Job Access grants. Transit-oriented construction activities are eligible under FTA's Section 5307, 5309 and 5311 Formula Grant programs. Transit passes are eligible expenses under Temporary Assistance for Needy Families (TANF) and Welfare-to-Work (WtW) programs.

Programs for private automobile ownership and repair are not legally eligible under this grant funding program. However, programs supporting carpooling and other forms of mass transportation and shared-ride use, such as jitneys or special paratransit service, are eligible. In cases where vehicle acquisition is part of the program, vehicles must remain under the continuing control of the agency receiving the grant.

3. Reverse Commute Project

A Reverse Commute project facilitates the provision of new or expanded public mass transportation services for the general public from urban areas, suburban and rural areas to suburban work places. Reverse Commute services include, but are not limited to:

(a) Bus, train, car and van pooling services, van routes, and

(b) The purchase or lease by a nonprofit organization or public agency of a van or bus dedicated to shuttling employees from their residences and transit transfer points to a suburban work place and back again.

F. Cost Sharing

The Job Access and Reverse Commute grant program is intended to fill gaps in existing services and leverage other Federal, state and local transportation-related funding to address the unmet needs of individuals moving from welfare to work and other low-income populations. Neither funds awarded under this grant program, nor funds used to match the grants, can be used to replace any existing source of funds.

The maximum DOT share of a grant under the Job Access and Reverse Commute program may not exceed 50 percent of the total project cost. The non-DOT share shall be provided in cash. If funds are matched from other Federal programs, the funds must be applied directly to project expenses. Revenues from service agreements are an eligible match, but revenues from individual fares cannot be used as a match.

Transportation-eligible funding from Federal programs other than the Department of Transportation may be used to match DOT funds. These funds include but are not limited to:

a. Temporary Assistance for Needy Families (TANF);

b. Community Services Block Grants (CSBG) and Social Services Block Grants (SSBG) administered by the U.S. Department of Health and Human Services;

c. Welfare-to-Work (WtW) formula and competitive grants administered by the U.S. Department of Labor; and

d. Community Development Block grants (CDBG) and HOPE VI grants administered by the U.S. Department of Housing and Urban Development.

The prohibitions on the use of WtW funds for matching requirements under section 403(a)(5)(C)(ii) of the Social Security Act do not apply to Federal or state funds that provide transportation services. TANF and WtW grants, when used as a match, may be expended only for new or expanded transportation services and cannot be used for construction or to subsidize current transit operating expenses. Such funds also must supplement rather than supplant other state expenditures on transportation.

Under the TANF Final Rule, investment in transportation services for families who are employed, including the purchase of transit vouchers, and investments used as match for the Job Access and Reverse Commute program, do not constitute “assistance” and, therefore, do not trigger the 60-month lifetime limit on receipt of Federal benefits nor the reporting requirements of families receiving “assistance.” The Secretaries of Transportation, Labor, and Health and Human Services released revised joint guidance on the use of WtW and TANF funds on December 23, 1998, which is currently being updated to reflect the changes in the final TANF rule. Guidance on TANF funds, including specific examples of eligible transportation investments, is available on the web at [http://www.acf.dhhs.gov/programs/ofa/funds2.htm]. (“Child Support Performance and Incentives Act of 1998,” Pub.L. 105-200, Sec. 403, “Limitations on Use of TANF Funds for Matching Under Certain Federal Transportation Programs.”).

More extensive guidance on the use of TANF and WtW funds for transportation can be found on the FTA web site---- http://www.fta.dot.gov/wtw.

G. Planning

1. Coordinated Transportation/Human Services Planning Process

Proposed Job Access and Reverse Commute projects must be derived from an Area-Wide Job Access and Reverse Commute Transportation Plan (see below) which results from a coordinated public transit and human services transportation planning process. Any interested stakeholder group in the area may initiate the planning process. FTA encourages MPOs to serve as the regional forum in urbanized areas.

The planning process must include transportation planning officials from state and metropolitan transportation planning organizations; representatives from local transit agencies and other existing human service, private, non-profit transportation operators; the agencies administering TANF and WtW formula and competitive grants, and the community to be served. Stakeholders within the community to be served include welfare recipients and low-income residents as well as, community and faith-based organizations, disability groups, farm and migrant worker organizations and other groups representing the interests of low-income persons.

The planning process also should include other stakeholders organized transit labor representatives; employment, human service, and child care support service providers; a variety of local and state workforce development organizations including One-Stop Career Center; public and assisted housing providers and community development agencies; economic development agencies; employers and employer groups (such as transportation management organizations and Chambers of Commerce); elected representatives including tribal officials, and state officials including mayors, county supervisors, state legislators, governors and other state and local officials or their designates, and other interested public citizens.

2. Area-Wide Job Access and Reverse Commute Transportation Plan

The purpose of collaboration is to develop a comprehensive area-wide approach to providing transportation services to welfare recipients and low-income persons regardless of jurisdictional boundaries. In general, the Job Access and Reverse Commute program should be viewed as a catalyst to provide long-term mobility and access to jobs for welfare recipients and low-income individuals. Any project proposed for funding should be identified in the Area-Wide Job Access Transportation Plan resulting from the above process. The Plan is not meant to supersede, but to build upon existing area welfare-to-work transportation planning activities. The Area Wide Job Access and Reverse Commute Transportation Plan must:

a. Identify the geographic distributions of welfare recipients and low-income people in the region;

b. Identify the geographic distributions of employment centers and employment-related activities in the region;

c. Identify existing public, private, non-profit and human service transportation services in the region;

d. Identify transportation gaps between the geographic distributions of people, as specified in section “a,” and employment, as specified in section “b,” which are not currently served by the transportation services, as specified in section “c,”

e. Identify projects to address the gaps identified in section “d.” Each project identification must include:

(1) the goals and objectives of the project

(2) the cost of the project;

(3) An explanation of how the project will maximize use of existing transportation service providers and what mechanisms will be used to integrate or coordinate the project services with the existing transportation network; and

(4) Identification of any employer-provided or employer-assisted transportation service strategies incorporated in the project.

Prioritize the project(s) identified in section “e” for funding and implementation. This is a requirement.

The Area-Wide Job Access and Reverse Commute Transportation Plan should build on and incorporate existing welfare to work transportation planning activities.

In addition, since low-income persons with disabilities tend to be more disbursed throughout the community than other low-income groups that are geographically more concentrated, the Plan should include specific identification of projects that will address the employment-related needs of this population.

3. The Role of Metropolitan Planning Organizations

MPOs are comprised of elected officials representing local governments and transportation service providers within the metropolitan area. They are responsible for adopting transportation plans and improvement programs to address a region's unique transportation needs and working with states to include these priorities in statewide plans.

In regions with populations of more than 200,000, MPOs are responsible for selecting applicants to be considered for Federal Job Access and Reverse Commute grants. In regions with populations between 50,000 and 200,000, MPOs will recommend projects to the state, which will select the applicants to be considered for Federal Job Access and Reverse Commute grants.

This means that MPOs are responsible for the following:

(a) Determining that Job Access and Reverse Commute projects are consistent with the regional long-range transportation plan.

(b) Ensuring that the submitted application contains prioritized projects based on local need. Local priorities can be ascertained through the collaborative human services/transportation planning process and through consultation with the affected stakeholders.

(c) Endorsing and subsequently programming Job Access and Reverse Commute projects into the area Transportation Improvement Program in urbanized areas of over 50,000 population.

(d) Conducting the locally-developed public participation process as required by Joint FHWA/FTA Planning Rule (23 CFR part 450, 49 CFR part 613).

In all regions with MPOs, individual Job Access and Reverse Commute projects must be adopted into the MPO's Transportation Improvement Program (TIP) prior to receiving a grant. Because this entails a formal review and project approval by the MPO Policy Board, FTA strongly urges the partners developing the Area-Wide Job Access and Reverse Commute Transportation Plan to communicate with the MPO at an early stage. Further, as financial sustainability of a project is one of the evaluation criteria, coordination with the agencies participating in the MPO forum could be a critical factor in ensuring long-term support for Job Access and Reverse Commute activities.

4. Statewide Transportation Planning Requirements

In all regions with populations of less than 200,000, the state is responsible for selecting applicants, based on the recommendation of the MPO in areas between 50,000-200,000 population. In addition, Job Access and Reverse Commute projects selected for funding must be endorsed by the state and incorporated into the statewide transportation improvement program (STIP). Because this requires state approval, FTA strongly urges the partners to communicate with state officials, including the state DOT, at an early stage. In selecting projects in rural areas, states should give priority to projects providing service to places that are not currently served or are underserved by public transit systems. States must prioritize the projects for funding based on their analysis of local needs and service effectiveness, as well as the collaboration achieved among stakeholders. Given the sovereign nature of tribal governments, tribal projects need not be included in the state's prioritization of projects, though they must be included in the State Transportation Improvement Program (STIP).

5. Improved Transportation Planning

The statewide and metropolitan transportation planning processes mandated by TEA-21 promote ongoing, cooperative, and active involvement of public transportation providers; the public; and state, metropolitan and local government agencies in the development of state-wide and metropolitan transportation plans and improvement programs. DOT expects that the Job Access and Reverse Commute grant program will be a catalyst for broadening the transportation planning process to better integrate employment and social equity considerations.

J. General Grant Requirements

In addition to the project proposal based on the program-specific requirements outlined in this notice, the applicant will be required to submit appropriate certifications, assurances, and other documentation necessary to meet the requirements of FTA's Urbanized Area Formula Grant Program (Section 5307 program under Title 49, United States Code). These include planning, environmental, school bus, charter, procurement, labor protections and civil rights requirements, including the Americans with Disabilities Act, Title VI, Environmental Justice and Disadvantaged Business Enterprise, and drug and alcohol testing requirements.

Applicants are encouraged to coordinate with affected transit labor unions and to gather all information required by the U.S. Department of Labor for labor certification as soon as possible to avoid delay in the certification process upon grant selection. (See Appendix F for a description of required information). Applicants must have the financial, legal, and technical capacity to apply for and administer projects. Copies of the Section 5307 program guidance (circular FTA 9030.1B “Urbanized Area Formula Program: Grant Application Instructions,” Oct. 10, 1996) can be obtained from any FTA Regional Office or electronically through the FTA website. (See Appendix D for summary list.)

K. Performance Monitoring

FTA requires grant recipients to monitor the performance of their Job Access and Reverse Commute services and to cooperate with the FTA and General Accounting Office (GAO) national evaluations mandated by law. Performance measures on: (1) Increasing access between welfare recipients and low-income populations and employment sites; and (2) job access/reverse commute service effectiveness and efficiency will be sought. The required performance measures for FY 1999 grants may be found on FTA's web site (www.fta.dot.gov/wtw). Similar measures will be required for FY 2000 grantees. Performance monitoring primarily will take place through FTA standard project quarterly progress reports. Quarterly reports and other information must be reported in accordance with FTA's standard reporting requirements which are: (1) For projects in non-urbanized areas, reporting requirements for the 5311 Program (FTA C 9040.1E, page VI-6) annual status reports, annual financial status reports, and annual Disadvantaged Business Enterprise (DBE) reports; (2) for projects in urbanized areas, reporting requirements for the 5307 Program, Transit Database Reporting, annual audits and triennial review.

IV. Guidelines for Preparing Grant Application

FTA is conducting a national solicitation for applications under the Job Access and Reverse Commute Program. Grant awards will be made on a competitive basis. FTA encourages both traditional transportation recipients and a variety of new program entrants non-traditional grantees in urban, suburban, and rural areas to participate in the development of projects. To assist new program applicants in particular, a two-step application process is available. Applicants must submit a proposal that describes the proposed project for which funding is sought and responds to the requirements outlined in this Notice. If selected, the applicant must then document compliance with the standard FTA requirements listed in Appendix D as well as complete the securement of the financial match for the grant. Applicants may elect to submit a single application containing both the proposal and documentation of FTA standard requirements. Contact the appropriate FTA regional office for guidance on meeting standard FTA program requirements.

A. Grant Funding Amounts

Suggested grant sizes are identified below. (Applicants may request smaller amounts from FTA.)

1. For urbanized areas with populations of over one million, FTA expects to make grants of no more than $1 million. (Places with populations of above 5 million may request funding above $1 million.)

2. For urbanized areas with populations greater than 200,000 and less than one million, FTA expects to make grants of no more than $500,000.

3. For urbanized areas with populations between 50,000 and 200,000, FTA expects to make grants of no more than $200,000. States should not submit applications that collectively exceed $1 million for this category.

4. For rural areas (areas with populations of less than 50,000), individual area grant applications generally should not exceed $150,000. Collective grant applications by states for rural areas should not exceed $1 million. Tribal applications may be considered separately from the state funding limitation.

B. Project Scope

Proposed projects must be drawn from an Area-Wide Job Access and Reverse Commute Transportation Plan and focus on new or expanded transportation services. Applicants should focus on projects that can be started within six months, but no later than within one year of grant award.

V. Application Development and Submission

To promote collaboration and reduce administrative paperwork, FTA strongly encourages the submission of a consolidated application by a single entity in urbanized areas and the submission of a consolidated application by the state for rural areas. In both cases, funds may be passed on to sub-recipients. Tribal governments submitting projects that are selected by the state may choose to allow the state to include their project(s) in the state's application or, as sovereign governments, may apply directly to FTA. Since existing FTA grantees may have already met or have on file information that will satisfy many of the FTA requirements that apply to this program, FTA encourages states and local transit agencies to serve as the single entity by submitting applications on behalf of other entities.

Applicants must submit an original and two paper copies of the application proposal to the appropriate FTA regional office. Additionally, the application proposal is to be submitted via e-mail to the FTA at: (JobAccess@fta.dot.gov). If an applicant is unable to submit the application electronically via e-mail, the proposal should be submitted on a 3.5 formatted disk for use on a personal computer (PC). Documents should be submitted in Word or Rich Text Format (RTF). Tables should be submitted in an Excel, or Tab Delimited Format. Submissions must be postmarked by, as well as electronically sent, where feasible, to FTA by May 9, 2000.

Applicants with access to TEAM, FTA's electronic grant making and management system, should enter standard grant information into TEAM once projects have been selected. For those applicants with access to TEAM that choose the one-step application process and submit a single comprehensive application (application proposal and standard section 5307 requirements), all standard grant requirement information also should be entered into TEAM.

The application proposal should provide detailed information on each project for which FY 2000 funds are being requested. The application should include the following elements:

A. Transmittal Memo

Include the following information:

1. The Name of Applicant(s) and the Type of Agency (See Appendix G for list of agency types).

2. A List of Sub Recipients and the Types of Agencies (See Appendix G).

3. Name, Address and Telephone Number of a Person to be Contacted for Additional Information.

4. Name, Title, and Complete Address of Person to be Notified if Grant is Awarded.

5. Area(s) to be Served: Cities, Counties, Tribal Lands and States.

6. Project Summary. Two paragraphs to be used for press purposes should the application be selected for funding. The summary should contain: a brief description and list of the planning partners; a brief overview of the transportation challenges in the area; a brief description of the services to be funded; the intended project beneficiaries and the identification of any employment support services (e.g., training, child care, or housing) that will be coordinated with the proposed transportation services.

7. A Brief Description of the Applicant's Organizational Capability to Carry Out the Project.

8. Identification of the Area as a Designated Empowerment Zone, Enterprise Community, or Champion Community, if applicable.

9. Total Federal Project Funding Requested:

Major Urbanized Area (Over 200,000 population)

• Job Access Amount: $

• Reverse Commute Amount: $

Medium Urbanized Area (50,000 to 200,000 Population)

• Job Access Amount: $

• Reverse Commute Amount: $

Non-urbanized Area (Rural and Small Urban—less than 50,000 Population)

• Job Access Amount: $

• Reverse Commute Amount: $

10. Total Funds Requested

Job Access Amount: $

• Reverse Commute Amount: $

• Total Requested: $

11. Source(s) and Dollar Amount of Matching Funds.

B. Proposal Narrative

Provide the information identified below to support your application for new or expanded services.

1. Document the coordinated human services and transportation planning process. This should include:

a. A brief description (no more than three pages—double spaced) of the collaborative transportation/human services process used in developing the Area-Wide Job Access and Reverse Commute Transportation Plan, including the coordination and consultation process with the organizations that have been specified by law: the community to be served, states and MPOs, existing transportation providers and transit agencies, agencies administering the TANF and WtW funds.

b. A list of the above organizations and other participants in the Job Access and Reverse Commute planning process.

c. A description of the results of the local Job Access and Reverse Commute Plan consultation process with the community to be served, including welfare recipients and low-income individuals, individuals with disabilities, migrant workers, Native Americans and community-based, faith-based and other organizations addressing the interests of such individuals.

d. Letters of endorsement or objections from planning partners.

e. Applicant responses to any letters of objections.

2. Document the unmet transportation needs on a region-wide basis from the Area-Wide Job Access and Reverse Commute Plan and provide project specific information on how the proposed services meet these needs. Where possible, provide maps depicting the information listed below (2a, 2b). Please provide the following information:

a. Describe the unmet need for additional transportation services to transport those leaving welfare and low-income individuals to jobs, training and other employment services on an area-wide and project-specific basis. This should include:

• A definition of the proposed project service areas, the communities to be served and the geographic area covered by the area-wide job access and reverse commute plan.

• The number of welfare recipients and low-income persons and the percentage of the population that they represent within the proposed project service area and the percentage of the population that they represent within the geographic and project/s service area.

• A description of major employment opportunities.

• A description of the existing transportation network, including human services, nonprofit, private and public transportation providers.

• A description of transportation gaps in existing services for welfare recipients and low-income populations seeking to reach jobs and employment support services.

• For reverse commute projects, information on the need for additional transportation services

b. MPOs and states should list projects in priority order for funding implementation and describe how each proposed project(s) will meet the unmet needs described above. Tribal projects do not have to be prioritized because they represent the projects of an independent sovereign government, not subject to state funding priorities. Include or address the following:

• Describe the applicant's organizational capacity to implement the project.

• Specify project goals and objectives.

• Provide indicators that will be used to monitor project performance and to make subsequent adjustments in project implementation.

• Describe the project.

• Provide operation-specific data (e.g. miles/hours of service, new routes, route extensions, reduced travel time for target population where appropriate, etc.).

• Estimate capital and operating project costs Estimate annualized cost per rider of proposed project. For job access projects, estimate low-income and welfare recipient ridership and total annual ridership.

• For reverse commute projects, estimate annual ridership.

• Percentage of target population to be served.

• Describe how the project will address the mobility needs of persons with disabilities and provide certification that the ADA requirements will be met. (Certification language—see Appendix E).

• Identify employment potential in the proposed project's service area, including the new jobs and/or job and employment support sites reached.

• Specify how existing service providers will be used to provide proposed services.

• Describe mechanisms to coordinate or integrate new transportation services within existing needs of target populations.

• For applicants who already have received Job Access and Reverse Commute grants in FY 1999, provide a report depicting progress toward meeting project goals/objectives and performance information on the items described above.

3. Document financial commitments, including prospects for sustainability.

• Document sources, or expected sources, of matching funds.

• Provide letters of financial commitment, or intent to commit, that document local match.

• Identify how TANF, WtW, other Federal, state or local financial resources will be leveraged.

• Identify the financial commitment of existing transportation providers.

• Identify employer-provided resources.

• Identify long-term financing that may be proposed or available to support continuation of the proposed project or other aspects of the regional plan, including continued transit, human service and employer provided financial resources.

4. For application for continuation of services previously funded in FY 1999, applicants must provide information on financial commitments plus information drawn from their progress reports that demonstrates achievements in meeting project objectives, including the number of:

• New employment sites reached.

• New employers reached.

• New jobs reached.

• New employment support facilities reached.

• New residential areas served with target populations.

• Ridership on new services, including, if available, number of welfare recipients and low-income persons served, [these figures may be generated by periodic surveys].

• Cost per rider.

• Additional vehicle hours of services provided.

• Other progress and results toward meeting project goals.

C. Project Budget

Provide a project budget for each project. (see Appendix C).

VI. Grant Review Process

Applications for competitive funding are to be submitted to the appropriate FTA Regional Office by the close of business TBD. FTA will screen all applications to determine whether all required eligibility elements, as described in the following checklist, are present. FTA will select projects based on what is most advantageous to the government, considering, in addition to the award criteria, the time frame in which projects can be implemented, Empowerment Zone or Enterprise Community status, use of innovative approaches, such as transportation mobility management/brokerage institutional arrangements and the application of Geographic Information Systems (GIS) and Intelligent Transportation Systems (ITS ) technologies, and geographic distribution of project funding.

A. Project Eligibility Checklist—include the following:

This checklist is provided for the applicant to use to ensure that the required documentation has been provided in the application. Failure to provide the documentation listed below will make an applicant's proposal non-responsive and it will not be evaluated further.

(1) A description of the applicant's organizational capacity to implement the proposed project(s).

(2) A brief description and documentation of a coordinated transportation/human services planning process.

(3) An Area-Wide Job Access and Reverse Commute Transportation Plan. The plan must prioritize and rank projects for funding. Tribal projects are exempted for prioritization.

(4) A brief description of each project proposed.

(5) Documentation of matching funds.

(6) Documentation of approval by affected transit authorities.

(7) For urbanized areas with populations over 200,000, documentation of the MPO selection and intention to amend the Transportation Improvement Plan (TIP) if the project is selected for funding.

(8) For urbanized areas with populations between 50,000 and 200,000, documentation of the state selection and MPO intention to amend the TIP if project is selected for funding.

(9) For areas with populations below 50,000, documentation of the state selection and intention to amend the state-wide transportation improvement plan (STIP) if project is selected for funding.

(10) Description of the results of the consultation process with the community to be served.

B. Award Criteria for Competitive Grants:

Once eligibility is established, the merit of each application will be evaluated based on the following factors. (The number of points in parentheses indicates the maximum level of points for a given factor.)

1. A coordinated human services/transportation planning process. (25 points). Evaluated based on the extent to which the applicant demonstrates a collaborative planning process and the extent to which the organizations listed below demonstrate support for the projects. The entities include the following:

• Existing transportation service providers;

• The state or local agencies that administer the state program funded under Part A of Title IV of the Social Security Act (TANF and WtW grant programs);

• Public housing agencies (including Indian tribes and their tribally designated housing entities as defined by the Secretary of Housing and Urban Development), especially those applying for Welfare to Work Housing Vouchers from the U.S. Department of Housing and Urban Development

• Other human service and employment service agencies and providers;

• The community to be served, including welfare recipients and low-income residents, community-based and faith-based organizations, disability groups, farm and migrant organizations, tribal associations and other organizations representing the interests of low-income persons;

• Employers and their organizations; and

• Other area stakeholders.

An Area-Wide Job Access and Reverse Commute Transportation Plan addressing the transportation needs of welfare recipients and low-income individuals (60 pts.)

a. Demonstrated need for additional transportation services (30 Points)

Evaluated based on the extent to which the applicant demonstrates:

• For a job access project, the relative need for additional services in the area to be served to transport welfare recipients and eligible low-income individuals to and from jobs, training and other employment support services; and

• For a reverse commute project, the need for additional services to transport individuals to suburban employment opportunities. b.

b. Extent to which proposed services will meet the need for services (30 Points)—Evaluated based on the extent to which:

• The proposed service will meet needs, including those associated with accessing jobs and employment-related services such as training and child care.

• The applicant demonstrates the maximum use of existing transportation service providers and how services will be coordinated with existing the transportation network.

3. Financial commitments (15 points)

Evaluated based on the extent to which the applicant identifies:

• Long-term financing strategies to support proposed services.

• Commitment of financial match by source, e.g.

—human service agencies and providers.

—employers.

—existing transportation providers.

C. Notification for Competitive Selections

FTA will notify applicants of selection decisions. Those selected must then submit appropriate certifications, assurances, and other documentation necessary to meet the applicable FTA Section 5307 Urbanized Area Formula Grant Program requirements and be included in the TIP or STIP as appropriate, if these requirements had not been met. Technical assistance regarding these requirements is available in each FTA regional office.

FTA is committed to obligating FY 2000 Job Access and Reverse Commute funding expeditiously. Therefore, FTA urges applicants to develop documentation in accordance with the Section 5307 program guidance as soon as possible. This allows the information necessary for grant approval to be readily available for submission to FTA when projects are selected for funding. FTA will approve final applications as soon as they are complete.

Issued on: March 3, 2000.
Nuria I. Fernandez,
Acting Administrator.

Appendix A: (FTA) Regional Offices

Region I—Massachusetts, Rhode Island, Connecticut, New Hampshire, Vermont and Maine

Richard H. Doyle, FTA—Regional Administrator, Kendall Square, 55 Broadway, Suite 920, Cambridge, MA 02142-1093,

(617) 494-2055

Region II—New York, New Jersey, Virgin Islands,

Letitia Thompson, FTA—Regional Administrator, One Bowling Green, Room 429, New York, NY 10004-1415, (212) 668-2170

Region III—Pennsylvania, Maryland, Virginia, West Virginia, Delaware, Washington D.C.

Sheldon Kinbar, FTA—Regional Administrator, 1760 Market Street, Suite 500, Philadelphia, PA 19103-4124, (215) 656-7100

Region IV—Georgia, North Carolina, South Carolina, Florida, Mississippi, Tennessee, Kentucky, Alabama, Puerto Rico

Susan Schruth, FTA—Regional Administrator, 61 Forsyth Street, S.W., Suite 17T50, Atlanta, GA 30303-8917, (404) 562-3500

Region V—Illinois, Indiana, Ohio, Wisconsin, Minnesota, Michigan

Joel Ettinger, FTA—Regional Administrator, 200 West Adams Street, Suite 2410, Chicago, IL 60606-5232, (312) 353-2789

Region VI—Texas, New Mexico, Louisiana, Arkansas, Oklahoma

Lee Waddleton, FTA—Regional Administrator, 819 Taylor Street, Room 8A36, Ft. Worth, TX 76102-9003, (817) 978-0550

Region VII—Iowa, Nebraska, Kansas, Missouri

Mokhtee Ahmad, FTA—Regional Administrator, 901 Locust Street, Suite 404, Kansas City, M0 64106, (816) 329-3920

Region VIII—Colorado, North Dakota, South Dakota, Montana, Wyoming, Utah

Louis Mraz, FTA—Regional Administrator, Columbine Place, Suite 650, 216 Sixteenth Street, Denver, CO 80202-5120, (303) 844-3242

Region IX—California, Arizona, Nevada, Hawaii, American Samoa, Guam

Leslie Rogers, FTA—Regional Administrator, 201 Mission Street, Suite 2210, San Francisco, CA 94105-1839, (415) 744-3133

Region X—Washington, Oregon, Idaho, Alaska

Helen Knoll, FTA—Regional Administrator, Jackson Federal Building, Suite 3142, 915 Second Avenue, Seattle, WA 98174-1002, (206) 220-7954.

Appendix B: Definitions

1. Welfare Recipient—An individual who receives or received aid or assistance under a state program funded under Part A of Title IV of the Social Security Act (whether in effect before or after the effective date of the amendments made by Title I of the Personal Responsibility and Work Opportunity Reconciliation Act of 1996 (Public Law 104-193); (110 Stat. 2110)) at any time during the three-year period before the date on which the applicant applies for a grant.

2. Eligible Low-Income Individual—An individual whose family income is at or below 150 percent of the poverty line (as that term is defined in Section 673(2) of the Community Services Block Grant Act (42 U.S.C. 9902(2)) including any revisions required by that section for a family of the size involved, as calculated by HHS. The 1999 guidelines were published in the March 18, 1999, (Volume 64, Number 52) Federal Register, page 13428-13430, and are available on the web at [http://www.aoa.gov/network/99hhspov.html].

3. Existing Transportation Service Providers—Public transportation providers including public, private and non-profit fixed route and paratransit operators, and governmental agencies and nonprofit organizations that receive assistance from Federal, state, or local sources for non-emergency transportation services.

4. Human Services Providers—Agencies and organizations involved in helping welfare recipients and low-income populations to make the transition to work and providing supportive employment services. These agencies and organizations include state and local workforce development organizations, agencies administering TANF and WtW formula and competitive funds, public and assisted housing providers and community development agencies, and, where appropriate, faith-based and community-based organizations providing employment support services.

5. Qualified Entity—(A) With respect to any proposed eligible project in an urbanized area with a population of at least 200,000, the applicant(s) selected by the appropriate Metropolitan Planning Organization that meets the program eligibility requirements, including planning and coordination requirements, from among local governmental authorities and agencies and nonprofit organizations and; (B) With respect to any proposed eligible project in an urbanized area with a population of greater than 50,000 and less than 200,000, or an area other than an urbanized area, the applicant(s) selected by the chief executive officer of the state in which the area is located that meets the program eligibility requirements, including the planning and coordination requirements, from among local governmental authorities and nonprofit organizations.

6. Transit Capital and Operating Assistance Projects—Projects to finance acquisition, construction, improvement, and operating costs of facilities, equipment and associated capital maintenance items used in mass transportation service, including crime prevention and security of and for such equipment and facilities. Direct administrative expenses associated with the provision of job access and reverse commute services are also eligible operating expenses.

7. Community to be Served—neighborhoods and geographic areas with a disproportionate number of welfare recipients and low-income residents as compared to the general population, and population groups such as tribes, migrant workers, and persons with disabilities who experience a disproportionate number of welfare recipients and low-income persons within them.

Appendix C: Sample Project Budget (One for each project)

Fiscal Year 2000 Funding
Applicant | Area size: Federal amount | Area size: Total amount
A. Job Access Project
Capital Costs |  |
Activity |  |
Quantity |  |
Activity |  |
Quantity |  |
Example: |  |
Activity Vans |  |
Quantity 4 |  |
Operating Costs: |  |
Activity |  |
Activity |  |
Example: |  |
Activity Late Night |  |
Service (3 Routes): |  |
Total |  |
B. Reverse Commute Project
Capital Costs: |  |
Activity |  |
Quantity |  |
Activity |  |
Quantity |  |
Example: |  |
Activity Vans |  |
Quantity 4 |  |
Operating Costs: |  |
Activity |  |
Activity |  |  | Example: |  |  | Activity Two new routes |  |  | Total |  |  | Grand Total (A or B or A & B) |  |
For those applicants seeking a multi-year commitment, provide this information for subsequent years or reference budget material from your Area-wide Job Access Transportation Plan.

Appendix D: Summary of FTA'S Section 5307 Requirements

This is the full range of 5307 requirements. Some of these items are covered in the application, in which case you will not need to submit information twice.

Approval Prerequisites

(On file with FTA, or to be submitted with application and updates as appropriate)

Opinion of Counsel

Authorizing Resolution

Current annual Certification and Assurances

Civil rights submissions up-to-date

Title VI

Annual DBE Goal

DBE Program

EEO Program

ADA

National Transit Database reports up-to-date

Any outstanding oversight findings resolved or resolution plan and schedule set

Additional Information

Project Budget

Project Description

Project Justification/Supporting Information as necessary

Project Milestone Schedule

Labor Union Description(s) (See Appendix F for a description of required information)

Environmental Review

Date of FTA's signing of FONSI (Finding of No Significant Impact), or

Date of FTA's signing of ROD (Record of Decision) closing out the EIS process, or

Grant applicant's Categorical Exclusion recommendation if neither (a) nor (b) above applies

Air Quality

Date of project level conformity determination by FTA, or

Applicant's recommendation concerning list of exemptions in the conformity regulation (40 CFR Part 51)

STIP—Date of Approval by FTA

Request for copy of Master Agreement (If applicant does not have latest one on file)

Appendix E: ADA Certification

Assurance of Nondiscrimination on the Basis of Disability

As required by U.S. DOT regulations, “Nondiscrimination on the Basis of Handicap in Programs and Activities Receiving or Benefiting from Federal Financial Assistance,” at 49 CFR part 27, implementing the Rehabilitation Act of 1973, as amended, and the Americans with Disabilities Act of 1990, as amended, the Applicant assures that, as a condition to the approval or extension of any Federal assistance awarded by FTA to construct any facility, obtain any rolling stock or other equipment, undertake studies, conduct research, or to participate in or obtain any benefit from any program administered by FTA, no otherwise qualified person with a disability shall be, solely by reason of that disability, excluded from participation in, denied the benefits of, or otherwise subjected to discrimination in any program or activity receiving or benefiting from Federal assistance administered by the FTA or any entity within U.S. DOT. The Applicant assures that project implementation and operations so assisted will comply with all applicable requirements of U.S. DOT 29 U.S.C. 794, and the Americans with Disabilities Act of 1990, as amended, 42 U.S.C. 12101 et seq. At 49 CFR parts 27, 37, and 38, and any applicable regulations and directives issued by other Federal departments or agencies.

Appendix F: Information Required by the U.S. Department of Labor for Labor Certification

I. Background

Federal Transit law requires that fair and equitable arrangements must be made, as determined by the U.S. Department of Labor (DOL), to protect the interests of employees affected by Job Access and Reverse Commute grants. These interests include the preservation of rights, privileges, and benefits under existing collective bargaining agreements, the continuation of collective bargaining rights, the protection of individual employees against a worsening of their positions related to employment, assurances of employment to employees of acquired mass transportation systems, priority of reemployment, and paid training or retraining.

DOL processes the employee protection certifications required under section 5333(b) in accordance with procedural Guidelines published at 29 CFR 215.3 (July 28, 1999 Federal Register). The DOL will process Job Access grants serving populations of 200,000 or more by referring a copy of the grant application to labor organizations representing affected employees and seeking the views of organized labor and the grant recipients on proposed certification terms. For grants serving populations under 200,000, DOL will issue its certification without seeking the views of the parties. In either case, the certification terms will be based on existing protective arrangements used for prior FTA grants, if any, or standard operating and/or capital arrangements developed by the DOL where there are no existing arrangements. (Such existing arrangements do not include the Special Section 13(c) Warranty that is used for projects funded under the Section 5311 program.)

It is essential where there are questions regarding the DOL certification process and/or information needed by DOL to obtain a labor certification that the applicant contact the appropriate Regional Office immediately. Where information lacks specificity, is unclear or is missing, DOL will place the grant application in an “incomplete” status until the necessary information is received. Conceptual terms such as “collaborative effort” or “working in conjunction with * * *” or “services will be provided to assist * * *” do not provide the specificity necessary for DOL to process a grant.

Upon receipt of a grant application, DOL will determine whether there is sufficient information to process the grant application. Because it is DOL's responsibility to address the protections afforded employees through the certification of appropriate protections, it must examine the activities of each subrecipient under the grant in order to frame a protective arrangement appropriate to the activity funded. The following information is needed by DOL to process all Job Access and Reverse Commute grant applications (including those areas under 200,000).

II. Description of Required Information

DOL needs the following information to process a grant application for labor certification.

a. Project Description (Brief). This section should contain a brief, succinct description of what is in the project. This generally would cover the major budget line items.

b. Project Description (Detail). This section should provide a complete description of each activity to be undertaken. It should include funding information, what the project application is for, how and where line items will be used whether the project is new service, and a description of the operating service area of the recipient or subrecipient. If there is more than one subrecipient under a grant, this information must be developed for each subrecipient's portion of the project.

c. Grantee Contact Person. This information is not contained in the TEAM application. Under “Project Details” please enter the name of a contact person for the grantee. In addition, if the grant will “pass through” funding to one or more subrecipients or other public entities, enter the full name of the subrecipient or other public entity, a contact name, mailing address, telephone number and facsimile number for each of these.

d. Union Information. This information is not contained in the TEAM application. Under “Project Details” please (1) identify all the labor organizations that represent transit employees of the recipient and each subrecipient, and (2) identify any other transportation providers which operate in the service area of the recipient and the subrecipients and all labor organizations that represent employees of these other transportation providers. Because employee protections are not limited to the employees of the grant recipient, other service area providers must be identified. Please note that a useful reference for obtaining labor union information is contained in Directory of U.S. Labor Organizations, 1999 edition. This may be purchased from the Bureau of National Affairs Books, P.O. Box 7814, Edison, N.J. 08810-7814. Telephone orders: 1-(800)-960-1220.

For each local of a nationally affiliated union, the applicant must provide the name of the national organization and the number or other designation of the local union. (For example, Amalgamated Transit Union Local 1258.) Since DOL makes its referral to the national union's headquarters, there is no need to provide a local contact in these situations.

However, for each independent labor organization (i.e., a union that is not affiliated with a national or international organization) the local contact information will be necessary (name of organization, contact person, mailing address, telephone number, facsimile number).

e. Extended Budget Descriptions. This must provide a project description and project justification for most line items. There are few line items that need no additional description and/or justification. If there are subreceipients under a grant, indicate which subrecipient will receive funds under each budget description.

If you have any questions, please contact the U.S. Department of Labor, Division of Statutory Programs, at (202) 693-0126

Appendix G: Agency Classifications

State Government

State DOT

State Human Services

State Labor/Employment

Other State Agencies

Indian Tribe

Transportation Providers

Public Transportation Providers

Regional Public Transit Authority

State Transit Agency

City Transit Agency

County Transit Agency

Private for Profit Companies

Bus

Taxi

Specialized Service (e.g., Medicaid Operator)

Other

Non-Profit Organizations

Human Services Transportation Provider

Community-Based Organization

Other

Transportation Planning Organizations

MPO

Council of Governments

Other

Local governments—General Purpose

County Government

City Government

Human Sevice Agencies

Local County/City Public Human Svcs Agency

Local County/City Welfare Agency

Local County/City Workforce Development Agency

Local Public Housing Agency

Non-Profit Service Providers

Human Support Services (e.g., Child Care, Substance Abuse)

Employment (e.g., Job Training, Job Placement)

Economic Development Agencies

Local/County Government

Non-Profit Corporations

Private Nonprofit Agencies

Community Action Agencies & Organizations

Community-Based Organizations

Faith-Based Organizations

Other private nonprofit organizations

Business Organizations

Chamber of Commerce

Transportation Management Organization

Other Organizations

[FR Doc. 00-5810 Filed 3-9-00; 8:45 am]

BILLING CODE 4910-57-U